DEPARTMENT OF COMMERCE

Bureau of Industry and Security

15 CFR Part 744

[Docket No. 190513445-9445-01]

RIN 0694-AH86

Addition of Entities to the Entity List

AGENCY: Bureau of Industry and Security, Commerce.

ACTION: Final rule.

SUMMARY: In this rule, the Bureau of Industry and Security (BIS) amends the Export Administration Regulations (EAR) by adding Huawei Technologies Co., Ltd. (Huawei) to the Entity List. The U.S. Government has determined that there is reasonable cause to believe that Huawei has been involved in activities contrary to the national security or foreign policy interests of the United States. BIS is also adding non-U.S. affiliates of Huawei to the Entity List because those affiliates pose a significant risk of involvement in activities contrary to the national security or foreign policy interests of the United States. Huawei will be listed on the Entity List under the destination of China. This final rule also adds to the Entity List sixty-eight non-U.S. affiliates of Huawei located in twenty-six destinations: Belgium, Bolivia, Brazil, Burma, Canada, Chile, China, Egypt, Germany, Hong Kong, Jamaica, Japan, Jordan, Lebanon, Madagascar, Netherlands, Oman, Pakistan, Paraguay, Qatar, Singapore, Sri Lanka, Switzerland, Taiwan, United Kingdom, and Vietnam.

DATES: Effective Date: This rule is effective May 16, 2019.

FOR FURTHER INFORMATION CONTACT: Director, Office of Exporter Services, Bureau of Industry and Security, Department of Commerce, Phone: (949) 660-0144 or (408) 998-8806 or email your inquiry to: ECDOEXS@bis.doc.gov.

SUPPLEMENTARY INFORMATION:

Background

The Entity List (Supplement No. 4 to part 744) identifies entities reasonably believed to be involved, or pose a significant risk of being or becoming involved, in activities contrary to the national security or foreign policy interests of the United States. The Export Administration Regulations (EAR) (15 CFR, subchapter C, parts 730-774) imposes additional license requirements on, and limits the availability of most license exceptions for exports, reexports, and transfers (in-country) to, listed entities. The license review policy for each listed entity is identified in the “License review policy” column on the Entity List, and the impact on the availability of license exceptions is described in the relevant Federal Register notice adding entities to the Entity List. BIS places entities on the Entity List pursuant to part 744 (Control Policy: End-User and End-Use Based) and part 746 (Embargoes and Other Special Controls) of the EAR.

The End-User Review Committee (ERC), composed of representatives of the Departments of Commerce (Chair), State, Defense, Energy and, where appropriate, the Treasury, makes all decisions regarding additions to, removals from, or other modifications to the Entity List. The ERC makes all decisions to add an entry to the Entity List by majority vote and all decisions to remove or modify an entry by unanimous vote.

ERC Entity List Decision

Additions to the Entity List

Under § 744.11(b) (Criteria for revising the Entity List) of the EAR, persons for whom there is reasonable cause to believe, based on specific and articulable facts, that the person has been involved, is involved, or poses a significant risk of being or becoming involved in activities that are contrary to the national security or foreign policy interests of the United States and those acting on behalf of such persons may be added to the Entity List.

Pursuant to § 744.11(b) of the EAR, the ERC has determined that there is reasonable cause to believe that Huawei Technologies Co., Ltd. (Huawei) has been involved in activities determined to be contrary to the national security or foreign policy interests of the United States. To illustrate, Huawei has been indicted in the U.S. District Court for the Eastern District of New York on 13 counts of violating U.S. law (Superseding Indictment), including violations of the International Emergency Economic Powers Act (IEEPA), by knowingly and willfully causing the export, reexport, sale and supply, directly and indirectly, of goods, technology and services (banking and other financial services) from the United States to Iran and the government of Iran without obtaining a license from the Department of Treasury's Office of Foreign Assets Control (OFAC), as required by OFAC's Iranian Transactions and Sanctions Regulations (31 CFR part 560), and conspiracy to violate IEEPA by knowingly and willfully conspiring to cause the export, reexport, sale and supply, directly and indirectly, of goods, technology and services (banking and other financial services) from the United States to Iran and the government of Iran without obtaining a license from OFAC as required by OFAC's Iranian Transactions and Sanctions Regulations (31 CFR part 560). The Superseding Indictment also alleges that Huawei and an Iranian-based affiliate, working with others, knowingly and willfully conspired to impair, impede, obstruct, and defeat, through deceitful and dishonest means, the lawful government operations of OFAC.

Further, Huawei's affiliates present a significant risk of acting on Huawei's behalf to engage in such activities. Because the ERC has determined that there is reasonable cause to believe that the affiliates pose a significant risk of becoming involved in activities contrary to the national security or foreign policy interests of the United States due to their relationship with Huawei, this final rule also adds to the Entity List sixty-eight non-U.S. affiliates of Huawei located in twenty-six destinations: Belgium, Bolivia, Brazil, Burma, Canada, Chile, China, Egypt, Germany, Hong Kong, Jamaica, Japan, Jordan, Lebanon, Madagascar, Netherlands, Oman, Pakistan, Paraguay, Qatar, Singapore, Sri Lanka, Switzerland, Taiwan, United Kingdom, and Vietnam. Without the imposition of a license requirement as to these affiliated companies, there is reasonable cause to believe that Huawei would seek to use these entities to evade the restrictions imposed by its addition to the Entity List. As set forth in the Superseding Indictment filed in the Eastern District of New York, Huawei participated along with certain affiliates in the alleged criminal violations of U.S. law, including one or more non-U.S. affiliates. The Superseding Indictment also alleges that Huawei and affiliates acting on Huawei's behalf engaged in a series of deceptive and obstructive acts designed to evade U.S. law and to avoid detection by U.S. law enforcement.

In light of the foregoing, Huawei and sixty-eight non-U.S. affiliates of Huawei raise sufficient concern that prior review of exports, reexports, or transfers (in-country) of items subject to the EAR involving these entities, and the possible imposition of license conditions or license denials on shipments to these entities, will enhance BIS's ability to prevent activities contrary to the national security or foreign policy interests of the United States.

For all of the entities added to the Entity List in this final rule, unless authorized by the Savings Clause in this final rule, BIS imposes a license requirement for all items subject to the EAR and a license review policy of presumption of denial. Similarly, no license exceptions are available for exports, reexports, or transfers (in-country) to the persons being added to the Entity List in this rule except as allowed in the Savings Clause in this final rule.

This final rule adds the following entity to the Entity List:

China

(1) Huawei Technologies Co., Ltd. (Huawei), Bantian Huawei Base, Longgang District, Shenzhen, 518129, China.

This final rule also adds the following sixty-eight non-U.S. affiliates of the entry above to the Entity List:

Belgium

(1) Huawei Technologies Research & Development Belgium NV, Belgium.

Bolivia

(1) Huawei Technologies (Bolivia) S.R.L., La Paz, Bolivia.

Brazil

(1) Huawei do Brasil Telecomunicacões Ltda, Sao Paulo, Brazil.

Burma

(1) Huawei Technologies (Yangon) Co., Ltd., Yangon, Burma.

Canada

(1) Huawei Technologies Canada Co., Ltd., Markham, ON, Canada.

Chile

(1) Huawei Chile S.A., Santiago, Chile.

China

(1) Beijing Huawei Digital Technologies Co., Ltd., Beijing, China;

(2) Chengdu Huawei High-Tech Investment Co., Ltd., Chengdu, Sichuan, China;

(3) Chengdu Huawei Technologies Co., Ltd., Chengdu, Sichuan, China;

(4) Dongguan Huawei Service Co., Ltd., Dongguan, Guangdong, China;

(5) Dongguan Lvyuan Industry Investment Co., Ltd., Dongguan, Guangdong, China;

(6) Gui'an New District Huawei Investment Co., Ltd., Guiyang, Guizhou, China;

(7) Hangzhou Huawei Digital Technology Co., Ltd., Hangzhou, Zhejiang, China;

(8) HiSilicon Optoelectronics Co., Ltd., Wuhan, Hubei, China;

(9) HiSilicon Technologies Co., Ltd (HiSilicon), Bantian Longgang District, Shenzhen, 518129, China.

(10) HiSilicon Tech (Suzhou) Co., Ltd., Suzhou, Jiangsu, China;

(11) Huawei Device Co., Ltd., Dongguan, Guangdong, China;

(12) Huawei Device (Dongguan) Co., Ltd., Dongguan, Guangdong, China;

(13) Huawei Device (Shenzhen) Co., Ltd., Shenzhen, Guangdong, China;

(14) Huawei Digital Technologies (Suzhou) Co., Ltd., Suzhou, Jiangsu, China;

(15) Huawei Machine Co., Ltd., Dongguan, Guangdong, China;

(16) Huawei Software Technologies Co., Ltd., Nanjing, Jiangsu, China;

(17) Huawei Technical Service Co., Ltd., China;

(18) Huawei Technologies Service Co., Ltd., Langfang, Hebei, China;

(19) Huawei Training (Dongguan) Co., Ltd., Dongguan, Guangdong, China;

(20) Huayi Internet Information Service Co., Ltd., Shenzhen, Guangdong, China;

(21) North Huawei Communication Technology Co., Ltd., Beijing, China;

(22) Shanghai Haisi Technology Co., Ltd., Shanghai, China;

(23) Shanghai Huawei Technologies Co. Ltd., Shanghai, China;

(24) Shanghai Mossel Trade Co., Ltd., Shanghai, China;

(25) Shenzhen Huawei Technical Services Co., Ltd., Shenzhen, Guangdong, China;

(26) Shenzhen Huawei Terminal Commercial Co., Ltd., Shenzhen, Guangdong, China;

(27) Shenzhen Huawei Training School Co., Ltd., Shenzhen, Guangdong, China;

(28) Shenzhen Huayi Loan Small Loan Co., Ltd., Shenzhen, Guangdong, China;

(29) Shenzhen Legrit Technology Co., Ltd., Shenzhen, Guangdong, China;

(30) Shenzhen Smartcom Business Co., Ltd., Shenzhen, Guangdong, China;

(31) Suzhou Huawei Investment Co., Ltd., Suzhou, Jiangsu, China;

(32) Wuhan Huawei Investment Co., Ltd., Wuhan, Hubei, China;

(33) Xi'an Huawei Technologies Co., Ltd., Xi'an, Shaanxi, China;

(34) Xi'an Ruixin Investment Co., Ltd., Xi'an, Shaanxi, China; and

(35) Zhejiang Huawei Communications Technology Co., Ltd., Hangzhou, Zhejiang, China.

Egypt

(1) Huawei Technology, Cairo, Egypt.

Germany

(1) Huawei Technologies Deutschland GmbH, Germany.

Hong Kong

(1) Huawei Device (Hong Kong) Co., Limited, Tsim Sha Tsui, Kowloon, Hong Kong;

(2) Huawei International Co., Limited, Hong Kong;

(3) Huawei Tech. Investment Co., Limited, Hong Kong;

(4) Huawei Technologies Co. Ltd., Tsim Sha Tsui, Kowloon, Hong Kong;

(5) Hua Ying Management Co. Limited, Tsim Sha Tsui, Kowloon, Hong Kong; and

(6) Smartcom (Hong Kong) Co., Limited, Sheung Wan, Hong Kong;

Jamaica

(1) Huawei Technologies Jamaica Company Limited, Kingston, Jamaica.

Japan

(1) Huawei Technologies Japan K.K., Japan.

Jordan

(1) Huawei Technologies Investment Co. Ltd., Amman, Jordan.

Lebanon

(1) Huawei Technologies Lebanon, Beirut, Lebanon.

Madagascar

(1) Huawei Technologies Madagascar Sarl, Antananarivo, Madagascar.

Netherlands

(1) Huawei Technologies Coöperatief U.A., Netherlands.

Oman

(1) Huawei Tech Investment Oman LLC, Muscat, Oman.

Pakistan

(1) Huawei Technologies Pakistan (Private) Limited, Islamabad, Pakistan.

Paraguay

(1) Huawei Technologies Paraguay S.A., Asuncion, Paraguay.

Qatar

(1) Huawei Tech Investment Limited, Doha, Qatar.

Singapore

(1) Huawei International Pte. Ltd., Singapore.

Sri Lanka

(1) Huawei Technologies Lanka Company (Private) Limited, Colombo, Sri Lanka.

Switzerland

(1) Huawei Technologies Switzerland AG, Liebefeld, Bern, Switzerland.

Taiwan

(1) Xunwei Technologies Co., Ltd., Taipei, Taiwan.

United Kingdom

(1) Huawei Global Finance (UK) Limited, Great Britain;

(2) Proven Glory, British Virgin Islands; and

(3) Proven Honour, British Virgin Islands.

Vietnam

(1) Huawei Technologies (Vietnam) Company Limited, Hanoi, Vietnam; and

(2) Huawei Technology Co. Ltd., Hanoi, Vietnam.

Savings Clause

Shipments of items removed from eligibility for a License Exception or export or reexport without a license (NLR) as a result of this regulatory action that were en route aboard a carrier to a port of export or reexport, on May 16, 2019, pursuant to actual orders for export or reexport to a foreign destination, may proceed to that destination under the previous eligibility for a License Exception or export or reexport without a license (NLR).

Export Control Reform Act of 2018

On August 13, 2018, the President signed into law the John S. McCain National Defense Authorization Act for Fiscal Year 2019, which included the Export Control Reform Act of 2018 (ECRA) (Title XVII, Subtitle B of Pub. L. 115-232 (132 Stat. 2210); 50 U.S.C. 4801 et seq.), which provides the legal basis for BIS's principal authorities and serves as the authority under which BIS issues this rule. As set forth in sec. 1768 of ECRA, all delegations, rules, regulations, orders, determinations, licenses, or other forms of administrative action that have been made, issued, conducted, or allowed to become effective under the Export Administration Act of 1979 (50 U.S.C. 4601 et seq.) (as in effect prior to August 13, 2018 and as continued in effect pursuant to the International Emergency Economic Powers Act (50 U.S.C. 1701 et seq.) and Executive Order 13222 of August 17, 2001, 3 CFR, 2001 Comp., p. 783 (2002), as amended by Executive Order 13637 of March 8, 2013, 78 FR 16129 (March 13, 2013), and as extended by the Notice of August 8, 2018, 83 FR 39871 (August 13, 2018)), or the Export Administration Regulations, and are in effect as of August 13, 2018, shall continue in effect according to their terms until modified, superseded, set aside, or revoked under the authority of ECRA.

Rulemaking Requirements

1. Executive Orders 13563 and 12866 direct agencies to assess all costs and benefits of available regulatory alternatives and, if regulation is necessary, to select regulatory approaches that maximize net benefits (including potential economic, environmental, public health and safety effects, distributive impacts, and equity). Executive Order 13563 emphasizes the importance of quantifying both costs and benefits, of reducing costs, of harmonizing rules, and of promoting flexibility. This rule has been determined to be not significant for purposes of Executive Order 12866. This rule is not an Executive Order 13771 regulatory action because this rule is not significant under Executive Order 12866.

2. Notwithstanding any other provision of law, no person is required to respond to nor be subject to a penalty for failure to comply with a collection of information, subject to the requirements of the Paperwork Reduction Act of 1995 (44 U.S.C. 3501 et seq.) (PRA), unless that collection of information displays a currently valid Office of Management and Budget (OMB) Control Number. This regulation involves collections previously approved by OMB under control number 0694-0088, Simplified Network Application Processing System, which includes, among other things, license applications and carries a burden estimate of 42.5 minutes for a manual or electronic submission. Total burden hours associated with the PRA and OMB control number 0694-0088 are not expected to increase as a result of this rule. You may send comments regarding the collection of information associated with this rule, including suggestions for reducing the burden, to Jasmeet K. Seehra, Office of Management and Budget (OMB), by email to Jasmeet_K._Seehra@omb.eop.gov, or by fax to (202) 395-7285.

3. This rule does not contain policies with Federalism implications as that term is defined in Executive Order 13132.

4. Pursuant to sec. 1762 of ECRA, this action is exempt from the Administrative Procedure Act (5 U.S.C. 553) requirements for notice of proposed rulemaking, opportunity for public participation, and delay in effective date.

5. Because a notice of proposed rulemaking and an opportunity for public comment are not required to be given for this rule by 5 U.S.C. 553, or by any other law, the analytical requirements of the Regulatory Flexibility Act, 5 U.S.C. 601, et seq., are not applicable. Accordingly, no regulatory flexibility analysis is required and none has been prepared.

List of Subjects in 15 CFR Part 744

Exports, Reporting and recordkeeping requirements, Terrorism.

Accordingly, part 744 of the Export Administration Regulations (15 CFR parts 730-774) is amended as follows:

PART 744—[AMENDED]

1. The authority citation for 15 CFR part 744 is revised to read as follows:

Authority: Pub. L. 115-232, Title XVII, Subtitle B (132 Stat. 2210); 50 U.S.C. 4801 et seq.; 50 U.S.C. 1701 et seq.; 22 U.S.C. 3201 et seq.; 42 U.S.C. 2139a; 22 U.S.C. 7201 et seq.; 22 U.S.C. 7210; E.O. 12058, 43 FR 20947, 3 CFR, 1978 Comp., p. 179; E.O. 12851, 58 FR 33181, 3 CFR, 1993 Comp., p. 608; E.O. 12938, 59 FR 59099, 3 CFR, 1994 Comp., p. 950; E.O. 12947, 60 FR 5079, 3 CFR, 1995 Comp., p. 356; E.O. 13026, 61 FR 58767, 3 CFR, 1996 Comp., p. 228; E.O. 13099, 63 FR 45167, 3 CFR, 1998 Comp., p. 208; E.O. 13222, 66 FR 44025, 3 CFR, 2001 Comp., p. 783; E.O. 13224, 66 FR 49079, 3 CFR, 2001 Comp., p. 786; Notice of August 8, 2018, 83 FR 39871 (August 13, 2018); Notice of September 19, 2018, 83 FR 47799 (September 20, 2018). Notice of November 8, 2018, 83 FR 56253 (November 9, 2018); Notice of January 16, 2019, 84 FR 127 (January 18, 2019).

2. Supplement No. 4 to part 744 is amended:

a. By adding in alphabetical order a heading for Belgium and one Belgian entity, “Huawei Technologies Research & Development Belgium NV”.

b. By adding in alphabetical order a heading for Bolivia and one Bolivian entity, “Huawei Technologies (Bolivia) S.R.L.”.

c. By adding in alphabetical order a heading for Brazil and one Brazilian entity, “Huawei do Brasil Telecomunicacões Ltda”.

d. By adding in alphabetical order a heading for Burma and one Burmese entity, “Huawei Technologies (Yangon) Co., Ltd.”.

e. Under Canada, by adding in alphabetical order, one Canadian entity, “Huawei Technologies Canada Co., Ltd”.

f. By adding in alphabetical order a heading for Chile and one Chilean entity, “Huawei Chile S.A.”.

g. Under China, People's Republic of, by adding in alphabetical order, thirty-six Chinese entities: “Beijing Huawei Digital Technologies Co., Ltd.”, “Chengdu Huawei High-Tech Investment Co., Ltd.”, “Chengdu Huawei Technologies Co., Ltd.”, “Dongguan Huawei Service Co., Ltd.”, “Dongguan Lvyuan Industry Investment Co., Ltd.”, “Gui'an New District Huawei Investment Co., Ltd.”, “Hangzhou Huawei Digital Technology Co., Ltd.”, “HiSilicon Optoelectronics Co., Ltd.”, “HiSilicon Technologies Co., Ltd (HiSilicon)”, “HiSilicon Tech (Suzhou) Co., Ltd.”, “Huawei Device Co., Ltd.”, “Huawei Device (Dongguan) Co., Ltd.”, “Huawei Device (Shenzhen) Co., Ltd.”, “Huawei Digital Technologies (Suzhou) Co., Ltd.”, “Huawei Machine Co., Ltd.”, “Huawei Software Technologies Co., Ltd.”, “Huawei Technical Service Co., Ltd.”, “Huawei Technologies Co., Ltd.”, “Huawei Technologies Service Co., Ltd.”, “Huawei Training (Dongguan) Co., Ltd.”, “Huayi internet Information Service Co., Ltd.”, “North Huawei Communication Technology Co., Ltd.”, “Shanghai Haisi Technology Co., Ltd.”, “Shanghai Huawei Technologies Co. Ltd.”, “Shanghai Mossel Trade Co., Ltd.”, “Shenzhen Huawei Technical Services Co., Ltd.”, “Shenzhen Huawei Terminal Commercial Co., Ltd.”, “Shenzhen Huawei Training School Co., Ltd.”, “Shenzhen Huayi Loan Small Loan Co., Ltd.”, “Shenzhen Legrit Technology Co., Ltd.”, “Shenzhen Smartcom Business Co., Ltd.”, “Suzhou Huawei Investment Co., Ltd.”, “Wuhan Huawei Investment Co., Ltd.”, “Xi'an Huawei Technologies Co., Ltd.”, “Xi'an Ruixin Investment Co., Ltd.”, and “Zhejiang Huawei Communications Technology Co., Ltd.”.

h. Under Egypt, by adding in alphabetical order, one Egyptian entity, “Huawei Technology”.

i. Under Germany, by adding in alphabetical order, one German entity, “Huawei Technologies Deutschland GmbH”.

j. Under Hong Kong, by adding in alphabetical order, six Hong Kong entities, “Huawei Device (Hong Kong) Co., Limited”, “Huawei International Co., Limited”, “Huawei Tech. Investment Co., Limited”, “Huawei Technologies Co. Ltd.”, “Hua Ying Management Co. Limited”, and “Smartcom (Hong Kong) Co., Limited”.

k. By adding in alphabetical order a heading for Jamaica and one Jamaican entity, “Huawei Technologies Jamaica Company Limited”.

l. By adding in alphabetical order a heading for Japan and one Japanese entity, “Huawei Technologies Japan K.K.”.

m. By adding in alphabetical order a heading for Jordan and one Jordanian entity, “Huawei Technologies Investment Co. Ltd.”.

n. By adding in alphabetical order, under Lebanon, one Lebanese entity, “Huawei Technologies Lebanon”.

o. By adding in alphabetical order a heading for Madagascar and one Malagasy entity, “Huawei Technologies Madagascar Sarl”.

p. Under Netherlands, by adding in alphabetical order, one Dutch entity, “Huawei Technologies Coöperatief U.A.”.

q. By adding in alphabetical order a heading for Oman and one Omani entity, “Huawei Tech Investment Oman LLC”.

r. Under Pakistan, by adding in alphabetical order, one Pakistani entity, “Huawei Technologies Pakistan (Private) Limited”.

s. By adding in alphabetical order a heading for Paraguay and one Paraguayan entity, “Huawei Technologies Paraguay S.A.”.

t. By adding in alphabetical order a heading for Qatar and one Qatari entity, “Huawei Tech Investment Limited”.

u. Under Singapore, by adding in alphabetical order, one Singaporean entity, “Huawei International Pte. Ltd.”.

v. By adding in alphabetical order a heading for Sri Lanka and one Sinhalese entity, “Huawei Technologies Lanka Company (Private) Limited”.

w. Under Switzerland, by adding in alphabetical order, one Swiss entity, “Huawei Technologies Switzerland AG”.

x. Under Taiwan, by adding in alphabetical order, one Taiwanese entity, “Xunwei Technologies Co., Ltd.”

y. Under United Kingdom, by adding in alphabetical order, three British entities, “Huawei Global Finance (UK) Limited”, “Proven Glory”, and “Proven Honour”.

z. By adding in alphabetical order a heading for Vietnam and two Vietnamese entities, “Huawei Technologies (Vietnam) Company Limited” and “Huawei Technology Co. Ltd.”.

The additions read as follows:

Supplement No. 4 to Part 744—Entity List

* * * * *

Country | Entity | License requirement | License review policy | Federal Register citation
* * * * * * *
BELGIUM | Huawei Technologies Research & Development Belgium NV, Belgium. | For all items subject to the EAR. (See § 744.11 of the EAR). | Presumption of denial | 84 FR [INSERT FR PAGE NUMBER] May 21, 2019.
* * * * * * *
BOLIVIA | Huawei Technologies (Bolivia) S.R.L., La Paz, Bolivia. | For all items subject to the EAR. (See § 744.11 of the EAR). | Presumption of denial | 84 FR [INSERT FR PAGE NUMBER] May 21, 2019.
BRAZIL | Huawei do Brasil Telecomunicacões Ltda, Sao Paulo, Brazil. | For all items subject to the EAR. (See § 744.11 of the EAR). | Presumption of denial | 84 FR [INSERT FR PAGE NUMBER] May 21, 2019.
* * * * * * *
BURMA | Huawei Technologies (Yangon) Co., Ltd., Yangon, Burma. | For all items subject to the EAR. (See § 744.11 of the EAR). | Presumption of denial | 84 FR [INSERT FR PAGE NUMBER] May 21, 2019.
CANADA | * * * * * *
| Huawei Technologies Canada Co., Ltd., Markham, ON, Canada. | For all items subject to the EAR. (See § 744.11 of the EAR). | Presumption of denial | 84 FR [INSERT FR PAGE NUMBER] May 21, 2019.
| * * * * * *
CHILE | Huawei Chile S.A., Santiago, Chile. | For all items subject to the EAR. (See § 744.11 of the EAR). | Presumption of denial | 84 FR [INSERT FR PAGE NUMBER] May 21, 2019.
CHINA, PEOPLE'S REPUBLIC OF | * * * * * *
| Beijing Huawei Digital Technologies Co., Ltd., Beijing, China. | For all items subject to the EAR. (See § 744.11 of the EAR). | Presumption of denial | 84 FR [INSERT FR PAGE NUMBER] May 21, 2019.
| * * * * * *
| Chengdu Huawei High-Tech Investment Co., Ltd., Chengdu, Sichuan, China. | For all items subject to the EAR. (See § 744.11 of the EAR). | Presumption of denial | 84 FR [INSERT FR PAGE NUMBER] May 21, 2019.
| Chengdu Huawei Technologies Co., Ltd., Chengdu, Sichuan, China. | For all items subject to the EAR. (See § 744.11 of the EAR). | Presumption of denial | 84 FR [INSERT FR PAGE NUMBER] May 21, 2019.
| * * * * * *
| Dongguan Huawei Service Co., Ltd., Dongguan, Guangdong, China. | For all items subject to the EAR. (See § 744.11 of the EAR). | Presumption of denial | 84 FR [INSERT FR PAGE NUMBER] May 21, 2019.
| Dongguan Lvyuan Industry Investment Co., Ltd., Dongguan, Guangdong, China. | For all items subject to the EAR. (See § 744.11 of the EAR). | Presumption of denial | 84 FR [INSERT FR PAGE NUMBER] May 21, 2019.
| * * * * * *
| Gui'an New District Huawei Investment Co., Ltd., Guiyang, Guizhou, China. | For all items subject to the EAR. (See § 744.11 of the EAR). | Presumption of denial | 84 FR [INSERT FR PAGE NUMBER] May 21, 2019.
| Hangzhou Huawei Digital Technology Co., Ltd., Hangzhou, Zhejiang, China. | For all items subject to the EAR. (See § 744.11 of the EAR). | Presumption of denial | 84 FR [INSERT FR PAGE NUMBER] May 21, 2019.
| * * * * * *
| HiSilicon Optoelectronics Co., Ltd., Wuhan, Hubei, China. | For all items subject to the EAR. (See § 744.11 of the EAR). | Presumption of denial | 84 FR [INSERT FR PAGE NUMBER] May 21, 2019.
| HiSilicon Technologies Co., Ltd (HiSilicon), Bantian Longgang District, Shenzhen, 518129, China. | For all items subject to the EAR. (See § 744.11 of the EAR). | Presumption of denial | 84 FR [INSERT FR PAGE NUMBER] May 21, 2019.
| HiSilicon Tech (Suzhou) Co., Ltd., Suzhou, Jiangsu, China. | For all items subject to the EAR. (See § 744.11 of the EAR). | Presumption of denial | 84 FR [INSERT FR PAGE NUMBER] May 21, 2019.
| Huawei Device Co., Ltd., Dongguan, Guangdong, China. | For all items subject to the EAR. (See § 744.11 of the EAR). | Presumption of denial | 84 FR [INSERT FR PAGE NUMBER] May 21, 2019.
| Huawei Device (Dongguan) Co., Ltd., Dongguan, Guangdong, China. | For all items subject to the EAR. (See § 744.11 of the EAR). | Presumption of denial | 84 FR [INSERT FR PAGE NUMBER] May 21, 2019.
| Huawei Device (Shenzhen) Co., Ltd., Shenzhen, Guangdong, China. | For all items subject to the EAR. (See § 744.11 of the EAR). | Presumption of denial | 84 FR [INSERT FR PAGE NUMBER] May 21, 2019.
| Huawei Digital Technologies (Suzhou) Co., Ltd., Suzhou, Jiangsu, China. | For all items subject to the EAR. (See § 744.11 of the EAR). | Presumption of denial | 84 FR [INSERT FR PAGE NUMBER] May 21, 2019.
| Huawei Machine Co., Ltd., Dongguan, Guangdong, China. | For all items subject to the EAR. (See § 744.11 of the EAR). | Presumption of denial | 84 FR [INSERT FR PAGE NUMBER] May 21, 2019.
| Huawei Software Technologies Co., Ltd., Nanjing, Jiangsu, China. | For all items subject to the EAR. (See § 744.11 of the EAR). | Presumption of denial | 84 FR [INSERT FR PAGE NUMBER] May 21, 2019.
| Huawei Technologies Co., Ltd., Bantian Huawei Base, Longgang District, Shenzhen, 518129, China. | For all items subject to the EAR. (See § 744.11 of the EAR). | Presumption of denial | 84 FR [INSERT FR PAGE NUMBER] May 21, 2019.
| Huawei Technical Service Co., Ltd., China. | For all items subject to the EAR. (See § 744.11 of the EAR). | Presumption of denial | 84 FR [INSERT FR PAGE NUMBER] May 21, 2019.
| Huawei Technologies Service Co., Ltd., Langfang, Hebei, China. | For all items subject to the EAR. (See § 744.11 of the EAR). | Presumption of denial | 84 FR [INSERT FR PAGE NUMBER] May 21, 2019.
| Huawei Training (Dongguan) Co., Ltd., Dongguan, Guangdong, China. | For all items subject to the EAR. (See § 744.11 of the EAR). | Presumption of denial | 84 FR [INSERT FR PAGE NUMBER] May 21, 2019.
| Huayi Internet Information Service Co., Ltd., Shenzhen, Guangdong, China. | For all items subject to the EAR. (See § 744.11 of the EAR). | Presumption of denial | 84 FR [INSERT FR PAGE NUMBER] May 21, 2019.
| * * * * * *
| North Huawei Communication Technology Co., Ltd., Beijing, China. | For all items subject to the EAR. (See § 744.11 of the EAR). | Presumption of denial | 84 FR [INSERT FR PAGE NUMBER] May 21, 2019.
| * * * * * *
| Shanghai Haisi Technology Co., Ltd., Shanghai, China. | For all items subject to the EAR. (See § 744.11 of the EAR). | Presumption of denial | 84 FR [INSERT FR PAGE NUMBER] May 21, 2019.
| Shanghai Huawei Technologies Co. Ltd., Shanghai, China. | For all items subject to the EAR. (See § 744.11 of the EAR). | Presumption of denial | 84 FR [INSERT FR PAGE NUMBER] May 21, 2019.
| * * * * * *
| Shanghai Mossel Trade Co., Ltd., Shanghai, China. | For all items subject to the EAR. (See § 744.11 of the EAR). | Presumption of denial | 84 FR [INSERT FR PAGE NUMBER] May 21, 2019.
| * * * * * *
| Shenzhen Huawei Technical Services Co., Ltd., Shenzhen, Guangdong, China. | For all items subject to the EAR. (See § 744.11 of the EAR). | Presumption of denial | 84 FR [INSERT FR PAGE NUMBER] May 21, 2019.
| Shenzhen Huawei Terminal Commercial Co., Ltd., Shenzhen, Guangdong, China. | For all items subject to the EAR. (See § 744.11 of the EAR). | Presumption of denial | 84 FR [INSERT FR PAGE NUMBER] May 21, 2019.
| Shenzhen Huawei Training School Co., Ltd., Shenzhen, Guangdong, China. | For all items subject to the EAR. (See § 744.11 of the EAR). | Presumption of denial | 84 FR [INSERT FR PAGE NUMBER] May 21, 2019.
| Shenzhen Huayi Loan Small Loan Co., Ltd., Shenzhen, Guangdong, China. | For all items subject to the EAR. (See § 744.11 of the EAR). | Presumption of denial | 84 FR [INSERT FR PAGE NUMBER] May 21, 2019.
| Shenzhen Legrit Technology Co., Ltd., Shenzhen, Guangdong, China. | For all items subject to the EAR. (See § 744.11 of the EAR). | Presumption of denial | 84 FR [INSERT FR PAGE NUMBER] May 21, 2019.
| Shenzhen Smartcom Business Co., Ltd., Shenzhen, Guangdong, China. | For all items subject to the EAR. (See § 744.11 of the EAR). | Presumption of denial | 84 FR [INSERT FR PAGE NUMBER] May 21, 2019.
| * * * * * *
| Suzhou Huawei Investment Co., Ltd., Suzhou, Jiangsu, China. | For all items subject to the EAR. (See § 744.11 of the EAR). | Presumption of denial | 84 FR [INSERT FR PAGE NUMBER] May 21, 2019.
| * * * * * *
| Wuhan Huawei Investment Co., Ltd., Wuhan, Hubei, China. | For all items subject to the EAR. (See § 744.11 of the EAR). | Presumption of denial | 84 FR [INSERT FR PAGE NUMBER] May 21, 2019.
| Xi'an Huawei Technologies Co., Ltd., Xi'an, Shaanxi, China. | For all items subject to the EAR. (See § 744.11 of the EAR). | Presumption of denial | 84 FR [INSERT FR PAGE NUMBER] May 21, 2019.
| * * * * * *
| Xi'an Ruixin Investment Co., Ltd., Xi'an, Shaanxi, China. | For all items subject to the EAR. (See § 744.11 of the EAR). | Presumption of denial | 84 FR [INSERT FR PAGE NUMBER] May 21, 2019.
| Zhejiang Huawei Communications Technology Co., Ltd., Hangzhou, Zhejiang, China. | For all items subject to the EAR. (See § 744.11 of the EAR). | Presumption of denial | 84 FR [INSERT FR PAGE NUMBER] May 21, 2019.
| * * * * * *
* * * * * * *
EGYPT | * * * * * *
| Huawei Technology, Cairo, Egypt. | For all items subject to the EAR. (See § 744.11 of the EAR). | Presumption of denial | 84 FR [INSERT FR PAGE NUMBER] May 21, 2019.
* * * * * * *
GERMANY | * * * * * *
| Huawei Technologies Deutschland GmbH, Germany. | For all items subject to the EAR. (See § 744.11 of the EAR). | Presumption of denial | 84 FR [INSERT FR PAGE NUMBER] May 21, 2019.
| * * * * * *
* * * * * * *
HONG KONG | * * * * * *
| Huawei Device (Hong Kong) Co., Limited, Tsim Sha Tsui, Kowloon, Hong Kong. | For all items subject to the EAR. (See § 744.11 of the EAR). | Presumption of denial | 84 FR [INSERT FR PAGE NUMBER] May 21, 2019.
| Huawei International Co., Limited, Hong Kong. | For all items subject to the EAR. (See § 744.11 of the EAR). | Presumption of denial | 84 FR [INSERT FR PAGE NUMBER] May 21, 2019.
| Huawei Tech. Investment Co., Limited, Hong Kong. | For all items subject to the EAR. (See § 744.11 of the EAR). | Presumption of denial | 84 FR [INSERT FR PAGE NUMBER] May 21, 2019.
| Huawei Technologies Co. Ltd., Tsim Sha Tsui, Kowloon, Hong Kong. | For all items subject to the EAR. (See § 744.11 of the EAR). | Presumption of denial | 84 FR [INSERT FR PAGE NUMBER] May 21, 2019.
| Hua Ying Management Co. Limited, Tsim Sha Tsui, Kowloon, Hong Kong. | For all items subject to the EAR. (See § 744.11 of the EAR). | Presumption of denial | 84 FR [INSERT FR PAGE NUMBER] May 21, 2019.
| * * * * * *
| Smartcom (Hong Kong) Co., Limited, Sheung Wan, Hong Kong. | For all items subject to the EAR. (See § 744.11 of the EAR). | Presumption of denial | 84 FR [INSERT FR PAGE NUMBER] May 21, 2019.
| * * * * * *
* * * * * * *
JAMAICA | Huawei Technologies Jamaica Company Limited, Kingston, Jamaica. | For all items subject to the EAR. (See § 744.11 of the EAR). | Presumption of denial | 84 FR [INSERT FR PAGE NUMBER] May 21, 2019.
JAPAN | Huawei Technologies Japan K.K., Japan. | For all items subject to the EAR. (See § 744.11 of the EAR). | Presumption of denial | 84 FR [INSERT FR PAGE NUMBER] May 21, 2019.
JORDAN | Huawei Technologies Investment Co. Ltd., Amman, Jordan. | For all items subject to the EAR. (See § 744.11 of the EAR). | Presumption of denial | 84 FR [INSERT FR PAGE NUMBER] May 21, 2019.
* * * * * * *
LEBANON | * * * * * *
| Huawei Technologies Lebanon, Beirut, Lebanon. | For all items subject to the EAR. (See § 744.11 of the EAR). | Presumption of denial | 84 FR [INSERT FR PAGE NUMBER] May 21, 2019.
| * * * * * *
MADAGASCAR | Huawei Technologies Madagascar Sarl, Antananarivo, Madagascar. | For all items subject to the EAR. (See § 744.11 of the EAR). | Presumption of denial | 84 FR [INSERT FR PAGE NUMBER] May 21, 2019.
* * * * * * *
NETHERLANDS | * * * * * *
| Huawei Technologies Coöperatief U.A., Netherlands. | For all items subject to the EAR. (See § 744.11 of the EAR). | Presumption of denial | 84 FR [INSERT FR PAGE NUMBER] May 21, 2019.
| * * * * * *
* * * * * * *
OMAN | Huawei Tech Investment Oman LLC, Muscat, Oman. | For all items subject to the EAR. (See § 744.11 of the EAR). | Presumption of denial | 84 FR [INSERT FR PAGE NUMBER] May 21, 2019.
PAKISTAN | * * * * * *
| Huawei Technologies Pakistan (Private) Limited, Islamabad, Pakistan. | For all items subject to the EAR. (See § 744.11 of the EAR). | Presumption of denial | 84 FR [INSERT FR PAGE NUMBER] May 21, 2019.
| * * * * * *
* * * * * * *
PARAGUAY | Huawei Technologies Paraguay S.A., Asuncion, Paraguay. | For all items subject to the EAR. (See § 744.11 of the EAR). | Presumption of denial | 84 FR [INSERT FR PAGE NUMBER] May 21, 2019.
* * * * * * *
QATAR | Huawei Tech Investment Limited, Doha, Qatar. | For all items subject to the EAR. (See § 744.11 of the EAR). | Presumption of denial | 84 FR [INSERT FR PAGE NUMBER] May 21, 2019.
* * * * * * *
SINGAPORE | * * * * * *
| Huawei International Pte. Ltd., Singapore. | For all items subject to the EAR. (See § 744.11 of the EAR). | Presumption of denial | 84 FR [INSERT FR PAGE NUMBER] May 21, 2019.
| * * * * * *
* * * * * * *
SRI LANKA | Huawei Technologies Lanka Company (Private) Limited, Colombo, Sri Lanka. | For all items subject to the EAR. (See § 744.11 of the EAR). | Presumption of denial | 84 FR [INSERT FR PAGE NUMBER] May 21, 2019.
* * * * * * *
SWITZERLAND | * * * * * *
| Huawei Technologies Switzerland AG, Liebefeld, Bern, Switzerland. | For all items subject to the EAR. (See § 744.11 of the EAR). | Presumption of denial | 84 FR [INSERT FR PAGE NUMBER] May 21, 2019.
| * * * * * *
* * * * * * *
TAIWAN | * * * * * *
| Xunwei Technologies Co., Ltd., Taipei, Taiwan. | For all items subject to the EAR. (See § 744.11 of the EAR). | Presumption of denial | 84 FR [INSERT FR PAGE NUMBER] May 21, 2019.
| * * * * * *
* * * * * * *
UNITED KINGDOM | * * * * * *
| Huawei Global Finance (UK) Limited, Great Britain. | For all items subject to the EAR. (See § 744.11 of the EAR). | Presumption of denial | 84 FR [INSERT FR PAGE NUMBER] May 21, 2019.
| * * * * * * *
| Proven Glory, British Virgin Islands | For all items subject to the EAR. (See § 744.11 of the EAR). | Presumption of denial | 84 FR [INSERT FR PAGE NUMBER] May 21, 2019.
| Proven Honour, British Virgin Islands. | For all items subject to the EAR. (See § 744.11 of the EAR). | Presumption of denial | 84 FR [INSERT FR PAGE NUMBER] May 21, 2019.
| * * * * * * *
VIETNAM | Huawei Technologies (Vietnam) Company Limited, Hanoi, Vietnam. | For all items subject to the EAR. (See § 744.11 of the EAR). | Presumption of denial | 84 FR [INSERT FR PAGE NUMBER] May 21, 2019.
| Huawei Technology Co. Ltd., Hanoi, Vietnam. | For all items subject to the EAR. (See § 744.11 of the EAR). | Presumption of denial | 84 FR [INSERT FR PAGE NUMBER] May 21, 2019.

Dated: May 16, 2019.
Wilbur Ross,
Secretary of Commerce.

[FR Doc. 2019-10616 Filed 5-16-19; 4:15 pm]

BILLING CODE 3510-33-P